DEPARTMENT OF ENERGY

Federal Energy Regulatory Commission

[Project No. 12496-002]

Rugraw, LLC; Notice of Teleconference

a. Project Name and Number: Lassen Lodge Hydroelectric Project No. 12496.

b. Date and Time of Meeting: December 12, 2019; 1:00 p.m.-2:00 p.m. Eastern Time.

c. FERC Contact: Kenneth Hogan, kenneth.hogan@ferc.gov.

d. Purpose of Meeting: To discuss Commission staff's November 14, 2019 letter (Accession number: 20191114-3054), and the information needed to inform the Commission's dam safety review process.

e. All local, state, and federal agencies, Indian tribes, and other interested parties are invited to attend; however, participation will be limited between the Commission's staff, Rugraw, LLC and its representatives. Please email the FERC contact noted above by December 10, 2019, to receive specific instructions on how to attend.

Dated: November 26, 2019.
Kimberly D. Bose,
Secretary.

[FR Doc. 2019-26173 Filed 12-3-19; 8:45 am]

BILLING CODE 6717-01-P